DEPARTMENT OF COMMERCE

National Oceanic and Atmospheric Administration

Office of Oceanic and Atmospheric Research; External Review of NOAA's Hurricane Intensity Research and Development Enterprise

AGENCY: Office of Oceanic and Atmospheric Research (OAR), National Oceanic and Atmospheric Administration (NOAA), Department of Commerce (DOC).

ACTION: Notice of solicitation for members of a NOAA hurricane intensity research and development enterprise review panel.

SUMMARY: The Under Secretary of Commerce for Oceans and Atmosphere has requested the NOAA Science Advisory Board (SAB) to conduct an external review of NOAA's hurricane intensity research and development enterprise. The SAB is chartered under the Federal Advisory Committee Act and is the only Federal Advisory Committee with the responsibility to advise the Under Secretary on long- and short-range strategies for research, education, and application of science to resource management and environmental assessment and prediction. The SAB is forming an external panel to conduct a review and draft recommendations that will lead to future generations of numerical hurricane model forecasts as well as improvements in operational forecasting. Nominations to the panel are being solicited. The intent is to select from the nominees; however, the SAB retains the prerogative to name people to the review team that were not nominated if it deems it necessary to achieve the desired balance. Once selected, the SAB will post the review panel members' names at http://www.sab.noaa.gov.

DATES: Nominations must be received by twenty-one days from publication of this notice.

ADDRESSES: Nominations should be submitted electronically to noaa.sab.hurricane@noaa.gov.

FOR FURTHER INFORMATION CONTACT: Dr. Michael Uhart: 301-713-9121, ext. 159.

SUPPLEMENTARY INFORMATION: The external review team will consist of no less than eight members whose expertise as a group covers tropical cyclone instrumentation; observations and modeling; atmospheric and ocean dynamics, data assimilation, and modeling; vortex dynamics; fluid mechanics; operational numerical environmental modeling; and forecast operations. The reviewers should have the following qualifications:

1. National and international professional recognition;

2. Knowledge of and experience with the science which supports NOAA's tropical cyclone research and operations;

3. Knowledge of and experience with the organization and management of complex mission-oriented research and development programs;

4. No perceived or actual vested interest or conflict of interest that might undermine the credibility of the review.

It is of note here that except for qualification criteria 4, the criteria are not absolute requirements. The qualifications of some individuals are expected to be outstanding with respect to one or more of the criteria, so that being unqualified with respect to other criteria would not make them ineligible. The Terms of Reference for the review is posted at: http://www.sab.noaa.gov/doc/documents.html. The working group will prepare a preliminary report of its analysis and findings for the March 2006 SAB meeting and a final report, including recommendations, for the July 2006 SAB meeting. The working group will be dissolved after completing any follow-on requests by the SAB following the July 2006 meeting.

Nominations: Anyone is eligible to nominate and self-nominations will be accepted. Nominations should provide: (1) The nominee's full name, title, institutional affiliation, and contact information; (2) the nominee's area(s) of expertise; and (3) a short description of their qualifications relative to the kinds of advice being solicited. Inclusion of a resume is desirable.

Louisa Koch,
Deputy Assistant Administrator, Office of Oceanic and Atmospheric Research, National Oceanic and Atmospheric Administration.

[FR Doc. 05-9227 Filed 5-6-05; 8:45 am]

BILLING CODE 3510-KD-P 1